DEPARTMENT OF COMMERCE

National Oceanic and Atmospheric Administration

RIN 0648-XU95

Fisheries Off West Coast States and in the Western Pacific; Pacific Coast Groundfish Fishery; Application for an Exempted Fishing Permit

AGENCY: National Marine Fisheries Service (NMFS), National Oceanic and Atmospheric Administration (NOAA), Commerce.

ACTION: Notice; receipt of EFP applications; request for comments.

SUMMARY: NMFS announces the receipt of exempted fishing permit (EFP) applications, and is considering issuance of EFPs for vessels participating in the EFP fisheries. The EFPs are necessary to allow activities that are otherwise prohibited by Federal regulations. The EFPs will be effective no earlier than April 1, 2010, and would expire no later than April 31, 2011, but could be terminated earlier under terms and conditions of the EFPs and other applicable laws.

DATES: Comments must be received no later than 5 p.m., local time on April 1, 2010.

ADDRESSES: You may submit comments, identified by 0648-XU95, by any one of the following methods:

• Fax: 206-526-6736, Attn: Kevin Duffy.

• Mail: Barry A. Thom, Acting Administrator, Northwest Region, NMFS, 7600 Sand Point Way NE, Seattle, WA 98115-0070, Attn: Kevin Duffy.

FOR FURTHER INFORMATION CONTACT: To view copies of the 2010 EFP applications, visit the Pacific Council website at www.pcouncil.org and browse the “November 2009 Briefing Book”; or contact Kevin Duffy (Northwest Region, NMFS), phone: 206-526-4743, fax: 206-526-6736.

SUPPLEMENTARY INFORMATION: This action is authorized by the Magnuson-Stevens Fishery Conservation and Management Act provisions at 50 CFR 600.745, which states that EFPs may be used to authorize fishing activities that would otherwise be prohibited. At the November 2009 Pacific Fishery Management Council (Council) meeting in Costa Mesa, CA, the Council considered applications for five EFPs from: (1) The Nature Conservancy (TNC) and their collaborators; (2) the California Recreational Fishing Alliance (RFA) and Golden Gate Fisherman's Association; (3) the Oregon RFA; (4) Steven Fosmark; and (5) the Oregon Department of Fish and Wildlife (ODFW). An opportunity for public testimony was provided during the Council meeting. For more details on these EFP applications and to view copies of the applications, see the Pacific Council's website at www.pcouncil.org and browse the “November 2009 Briefing Book.” The Council recommended that NMFS consider issuing the following EFPs. The Council also recommended a change from the previous years to allow some EFPs, if approved, to span across a calendar year for business and logistical reasons. EFP reporting requirements, in these cases, will be adjusted to ensure reporting consistent with past practice, and an EFP will not be valid for more than 12 consecutive months.

Community-Based Fishing Association EFP

TNC submitted a proposal for a 2010 EFP, along with their collaborators: City of Morro Bay Harbor Department; Port San Luis Commercial Fishermen's Association; Port San Luis Harbor District; California Department of Fish and Game; Morro Bay Commercial Fishermen's Organization, Inc.; and Environmental Defense. The primary purpose of the EFP is to test whether establishing a cooperatively managed, community-based fishing association can provide economic and environmental performance benefits.

Recreational Chilipepper EFP

The California RFA and the Golden Gate Fishermen's Association submitted an application for a 2010 EFP. The primary purpose of the EFP is to do an area-based recreational fishing study to test if hook-and-line fishing gear can be used to access underutilized chilipepper rockfish seaward of the non-trawl RCA, while keeping bycatch of overfished species low.

Recreational Yellowtail EFP

The Oregon RFA submitted an application for a 2010 EFP. The primary purpose of the EFP is to test if recreational fishing gear, fitted with a long leader to keep gear up off the ocean floor, can be used to access underutilized yellowtail rockfish, while keeping bycatch of overfished species low.

Commercial Chilipepper EFP

Steven Fosmark submitted an application for a 2010 EFP. The primary purpose of the EFP is to test if a specific longline gear configuration can be used in the commercial fishery to target underutilized chilipepper rockfish, while keeping bycatch of overfished species low.

ODFW EFP

An EFP sponsored by the ODFW will allow selected Oregon charterboats to retain incidentally-caught yelloweye rockfish to be forfeited to the state. The objective of this EFP is to collect biological samples to inform future yelloweye rockfish stock assessments.

Authority: 16 U.S.C. 1801 et seq.

Dated: March 11, 2010.
Emily H. Menashes,
Acting Director, Office of Sustainable Fisheries, National Marine Fisheries Service.

[FR Doc. 2010-5741 Filed 3-16-10; 8:45 am]

BILLING CODE 3510-22-S